DEPARTMENT OF COMMERCE

National Oceanic and Atmospheric Administration

RIN 0648-XT48

New England Fishery Management Council; Public Meeting

AGENCY: National Marine Fisheries Service (NMFS), National Oceanic and Atmospheric Administration (NOAA), Commerce

ACTION: Notice of a public meeting.

SUMMARY: The New England Fishery Management Council (Council) is scheduling a joint public meeting of its Red Crab Plan Development Team and Advisory Panel in January, 2010 to consider actions affecting New England fisheries in the exclusive economic zone (EEZ). Recommendations from this joint group will be brought to the full Council for formal consideration and action, if appropriate.

DATES: This meeting will be held on Wednesday, January 20, 2010 at 10 a.m.

ADDRESSES: This meeting will be held at the Starboard Galley, 55 Water Street, Newburyport, MA 01952; telephone: (978) 462-1326; fax: (978) 465-1205.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion include:

1. Receive an update on PDT re-evaluation of MSY proxy for red crab and review of progress on outstanding issues;

2. Identification of further analysis or refinement needed for MSY re-evaluation and preparation for peer review of MSY re-evaluation;

3. Further consideration of measures for inclusion in Amendment 3;

4. Response to issues raised in the 2010 specifications document, if necessary.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: December 22, 2009.
Tracey L. Thompson,
Acting Director, Office of Sustainable Fisheries, National Marine Fisheries Service.

[FR Doc. E9-30715 Filed 12-28-09; 8:45 am]

BILLING CODE 3510-22-S